DEPARTMENT OF COMMERCE

International Trade Administration

Initiation of Antidumping and Countervailing Duty Administrative Reviews; Correction

AGENCY: Import Administration, International Trade Administration, Department of Commerce.

SUMMARY: The Department of Commerce (“the Department”) published a notice in the Federal Register on October 28, 2010, concerning the initiation of administrative reviews of various antidumping and countervailing duty orders and findings with September anniversary dates. The document contained incorrect information in both the Antidumping and Countervailing Duty Proceedings table.

DATES: Effective Date: November 10, 2010.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

Backgound

In the Federal Register of October 28, 2010, 75 FR 66349, under the tables entitled “Antidumping Duty Proceedings and Countervailing Duty Proceedings,” we note that the Department inadvertently listed the exporter names: Asia Pacific CIS (Wuxi) Co., Ltd., Asia Pacific CIS (Thailand) Co., Ltd., Hengtong Hardware Manufacturing (Huizhou) Co., Ltd., Taiwan Rail Company, and King Shan Wire Co., Ltd. under case numbers A-570-941 and C-570-942. For reasons explained in footnote #'s 5 & 6 in the October 28, 2010 Federal Register notice, the Department retracts its initiation of an administrative review of the antidumping duty order and the countervailing duty order with respect to the above referenced company names for case numbers A-570-941 and C-570-942 for the period of review 09/01/09 through 08/31/10.

Dated: November 4, 2010.
Susan H. Kuhbach,
Acting Deputy Assistant Secretary for Antidumping and Countervailing Duty Operations.

[FR Doc. 2010-28408 Filed 11-9-10; 8:45 am]

BILLING CODE 3510-DS-P